DEPARTMENT OF THE INTERIOR

Fish and Wildlife Service

[FWS-R1-ES-2009-N207; 10120-1113-0000-C2]

Endangered and Threatened Wildlife and Plants; Draft Revised Recovery Plan for the Mariana Fruit Bat or Fanihi (Pteropus mariannus mariannus)

AGENCY: Fish and Wildlife Service, Interior.

ACTION: Notice of document availability for review and comment; draft revised recovery plan.

SUMMARY: We, the U.S. Fish and Wildlife Service, announce the availability of the Draft Revised Recovery Plan for the Mariana Fruit Bat or Fanihi (Pteropus mariannus mariannus), for public review and comment.

DATES: Comments on the recovery plan must be received on or before June 28, 2010.

ADDRESSES: An electronic copy of the recovery plan is available at http://endangered.fws.gov/recovery/index.html#plans. The recovery plan is also available by request from the U.S. Fish and Wildlife Service, Pacific Islands Fish and Wildlife Office, 300 Ala Moana Boulevard, Room 3-122, Box 50088, Honolulu, Hawaii 96850 (phone: 808/792-9400). Requests for copies of the recovery plan and written comments and materials regarding this plan should be addressed to the Field Supervisor, Ecological Services, at the above Honolulu address.

FOR FURTHER INFORMATION CONTACT: Holly Freifeld, Fish and Wildlife Biologist, at the above Honolulu address.

SUPPLEMENTARY INFORMATION:

Background

Recovery of endangered or threatened animals and plants is a primary goal of the Endangered Species Act (Act) (16 U.S.C. 1531 et seq.) and our endangered species program. Recovery means improvement of the status of listed species to the point at which listing is no longer required under the criteria in section 4(a)(1) of the Act.

The Act requires the development of recovery plans for endangered or threatened species unless such a plan would not promote the conservation of the species. Recovery plans help guide the recovery effort by describing actions considered necessary for the conservation of the species, establishing criteria for downlisting or delisting listed species, and estimating time and cost for implementing the measures needed for recovery. This draft revised recovery plan was developed with the input and assistance of a Recovery Team appointed by the U.S. Fish and Wildlife Service.

Section 4(f) of the Act requires that public notice, and an opportunity for public review and comment, be provided during recovery plan development. We will consider all information presented during the public comment period, and substantive comments may result in changes to the recovery plan. Substantive comments regarding recovery plan implementation may not necessarily result in changes to the recovery plan, but will be forwarded to the appropriate Federal agency or other entities so that they can take these comments into account during the course of implementing recovery actions. Individual responses to comments will not be provided.

This subspecies of the Mariana fruit bat or fanihi (Pteropus mariannus mariannus) is endemic to the Mariana archipelago (the Territory of Guam and the Commonwealth of the Northern Mariana Islands [CNMI]), where it is known from most of the 15 major islands. The subspecies was federally listed as endangered on the island of Guam in 1984, and was reclassified as threatened throughout its range in 2005 (70 FR 1190). Surveys on most or all islands in the archipelago were conducted in 1983, 2000, and 2001. A conservative interpretation of these data indicates a steep decline in fruit bat numbers has taken place since 1983. Available information indicates the chief threats to the fanihi are hunting, chronic habitat degradation by ungulates, predation by brown treesnakes, and risk factors associated with small population size (bats are highly vulnerable to extirpation on islands where they persist in chronically low numbers). Therefore, the recovery strategy in this plan focuses on the following actions: (1) Reduction or elimination of hunting to allow increase in fanihi numbers throughout the archipelago; (2) protection of the best existing habitat and enhancement of additional suitable habitat; (3) effective control and interdiction of the brown treesnake; and (4) population monitoring and modeling to (a) assess the fanihi's sensitivity to specific threats and management actions and (b) forecast the species' persistence.

Implementing these actions requires building long-term support for and participation in the recovery effort through outreach and education; enhancing existing survey methodologies; developing research and monitoring projects to address gaps in our scientific knowledge of fanihi and provide new information for effective conservation and recovery; and application of this research and monitoring through adaptive management. The recovery strategy will be implemented as a collaborative effort among technical experts, agencies, the governments of the CNMI and Guam, and other participants and stakeholders. Owing to the limitations in our current knowledge of fanihi life history and ecology, this recovery plan focuses on the first 10 years of the recovery process. As additional information is gained about the fanihi through management, monitoring, and research, recovery strategies and measures should be reassessed to determine the appropriate steps toward recovery and delisting.

Request for Public Comments

We solicit written comments on the recovery plan described. All comments received by the date specified above will be considered prior to approval of this plan.

Authority: The authority for this action is section 4(f) of the Endangered Species Act, 16 U.S.C. 1533(f).

Dated: November 2, 2009.
David J. Wesley,
Regional Director, Region 1, U.S. Fish and Wildlife Service.

[FR Doc. 2010-6991 Filed 3-29-10; 8:45 am]

BILLING CODE 4310-55-P